DEPARTMENT OF DEFENSE

Department of the Army

Notice of Intent To Grant Exclusive Patent License to VICIS, Inc.; Seattle, WA

AGENCY: Department of the Army, DoD.

ACTION: Notice of intent.

SUMMARY: The Department of the Army hereby gives notice of its intent to grant to VICIS, Inc.; a corporation having its principle place of business at 570 Mercer St., Seattle, WA 98109, an exclusive license.

DATES: Written objections must be filed not later than 15 days following publication of this announcement.

ADDRESSES: Send written objections to U.S. Army Research Laboratory Technology Transfer and Outreach Office, RDRL-DPT/Thomas Mulkern, Building 321 Room 110, Aberdeen Proving Ground, MD 21005-5425.

FOR FURTHER INFORMATION CONTACT: Thomas Mulkern, (410) 278-0889, Email: ORTA@arl.army.mil.

SUPPLEMENTARY INFORMATION: The Department of the Army plans to grant an exclusive license to VICIS, Inc. in the field of use related to Helmet Chinstraps Incorporating Rate-Actuated Tethers for Football, Lacrosse and Hockey relative to the following—

• “Rate-Responsive, Stretchable Devices”, U.S. Patent No.: 9,303,717, Filing Date June 26, 2013, Issue Date April 5, 2016.

• “Rate-Responsive, Stretchable Devices (Further Improvements)”, U.S. Patent Application No.: 15/057,944, Filing Date March 1, 2016.

The prospective exclusive license may be granted unless within fifteen (15) days from the date of this published notice, the U.S. Army Research Laboratory receives written objections including evidence and argument that establish that the grant of the license would not be consistent with the requirements of 35 U.S.C. 209(e) and 37 CFR 404.7(a)(1)(i). Competing applications completed and received by the U.S. Army Research Laboratory within fifteen (15) days from the date of this published notice will also be treated as objections to the grant of the contemplated exclusive license.

Objections submitted in response to this notice will not be made available to the public for inspection and, to the extent permitted by law, will not be released under the Freedom of Information Act, 5 U.S.C. 552.

Brenda S. Bowen,
Army Federal Register Liaison Officer.

[FR Doc. 2017-16345 Filed 8-2-17; 8:45 am]

BILLING CODE 5001-03-P